DEPARTMENT OF DEFENSE

Office of the Secretary

[Transmittal No. 23-0V]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0V.

Dated: December 10, 2024.
Aaron T. Siegel,
Alternate OSD Federal Register Liaison Officer, Department of Defense.

BILLING CODE 6001-FR-P

BILLING CODE 6001-FR-C

Transmittal No. 23-0V

REPORT OF ENHANCEMENT OR UPGRADE OF SENSITIVITY OF TECHNOLOGY OR CAPABILITY (SEC. 36(B)(5)(C), AECA)

(i) Purchaser: Government of Japan

(ii) Sec. 36(b)(1), AECA Transmittal No.: 19-08

Date: January 29, 2019

Implementing Agency: Navy

(iii) Description: On January 29, 2019, Congress was notified by Congressional certification transmittal number 19-08, of the possible sale, under Section 36(b)(1) of the Arms Export Control Act, of two (2) AEGIS Weapon Systems (AWS), two (2) Multi-Mission Signal Processors (MMSP) and two (2) Command and Control Processor (C2P) Refreshes. Also included is radio navigation equipment, naval ordnance, two (2) Identification Friend or Foe (IFF) Systems, Global Command and Control System-Maritime (GCCS-M) hardware, and two (2) Inertial Navigation Systems (INS), U.S. Government and contractor representatives' technical, engineering and logistics support services, installation support material, training, construction services for six (6) vertical launch system launcher module enclosures, communications equipment and associated spares, classified and unclassified publications and software, and other related elements of logistical and program support. The total estimated program cost was $2.150 billion. Major Defense Equipment (MDE) constituted $.375 billion of this total.

On September 12, 2019, Congress was notified by Congressional certification transmittal number 0Q-19 of an increase in capability from the Navigation Sensor System Interface (non-MDE) originally notified, to the Global Positioning System (GPS)-based Positioning, Navigation, and Timing Service (GPNTS) capability, which is MDE. The total value of the GPNTS was $3,417,596, but the total estimated MDE and total program cost remained the same at $.375 billion and $2.150 billion, respectively.

This transmittal notifies the addition of the following MDE items: two (2) AEGIS Weapon Systems; two (2) AN/SPQ-9B Radar Systems; two (2) AN/SLQ-32(V)6 Electronic Warfare Systems; two (2) AN/USQ-140 Multifunctional Information Distribution System (MIDS) on Ship (MOS), Modernization (MOS MOD); two (2) AN/USQ-190 Multifunctional Information Distribution System Joint Tactical Radio Systems (V5); three (3) Cooperative Engagement Capability (CEC), AN/USG-10s; and one (1) AN/UYQ-120(V) Command and Control Processor (C2P) Technology Refresh System. Also included are AN/SQQ-89 Underwater Sound Equipment Systems; Multi-Function Towed Array Systems; RT-1829 Ultra-High Frequency, Satellite Communications (UHF SATCOM) Terminals; OE-570D Antennas; MK20 Mod 1 Electro-optic/Infrared Sensor Systems; MK160 Mod 23 Gun Weapon Systems; MK-36 Mod 6 Super Rapid Offboard Countermeasures and Decoy Launching System (SRBOC); U.S. Government and contractor representatives technical, engineering, and logistics support services; installation support material; training, tool development, communications equipment, and associated spares; classified and unclassified publications and software; and other related elements of logistics and program support. The estimated total value of the new items is $0.570 billion. The net MDE value will increase by $0.239 billion and the non-MDE value by $0.331 billion. The revised estimated total case value will increase to $2.72 billion. MDE will constitute $0.614 billion of this total.

(iv) Significance: The inclusion of this MDE represents an increase in capability over what was previously notified. The proposed articles and services will assist Japan in developing and maintaining a strong and effective self-defense capability.

(v) Justification: This proposed sale will support the foreign policy goals and national

security objectives of the United States by improving the security of a major ally that is a force for political stability and economic progress in the Asia-Pacific region.

(vi) Sensitivity of Technology:

The AN/SPQ-9B is a horizon search radar system that detects and tracks low radar cross section targets in high clutter and distributes radar track data to the AEGIS Combat system. The hardware is unclassified with the exception of the Radar Processor unit, which is classified SECRET upon connection to the combat system.

The AN/SLQ-32(V)6 Electronic Warfare System (EWS) provide enhanced electronic support (ES) detection and accuracy capabilities to improve anti-ship missile defense, counter targeting, counter surveillance, and battle space awareness, and also distributes electronic warfare (EW) sensor tracks and EW composite tracks to the AEGIS Combat System.

The AN/USQ-140 Multifunctional Information Distribution System-Low Volume Terminal (MIDS-LVT) is a secure, jam-resistant communication and positioning system. MIDS provides interoperability with NATO and coalition users, significantly increasing force command and control effectiveness. The Tactical Digital Information Link-J (TADIL-J) series message standard is employed by the system as defined in NATO Standardization Agreement (STANAG) 5516 and U.S. Military Standard (MIL-STD) 6016. The embedded hardware features provide communications security.

The AN/USQ-190 Multifunctional Information Distribution System Joint Tactical Radio System (MIDS JTRS) builds on the MIDS-LVT's capabilities with the addition of Concurrent Multi-Netting (CMN) and Concurrent Contention Receive (CCR) functions. CMN and CCR dramatically expand the number of platforms and network-enabled systems that can be reliably included in a Link 16 network.

The Cooperative Engagement Capability (CEC) AN/USG-10 is a system that fuses tracking data from shipboard and off-ship sensors and distributes radar measurement data to other platforms with CEC capability. The hardware is unclassified with the exception of the Signal Data Processor, which is classified SECRET and contains a communications security (COMSEC) card.

The AN/UYQ-120(V) Command and Control Processor (C2P) Technology Refresh System is a Tactical Data Link (TDL) message distribution system that provides real-time control and management of Tactical Digital Data Links (TADILs) in support of all major surface ship and shore command, control, and communications (C3) systems. The C2P is a follow-on Technical Refresh (TR) upgrade for the legacy AN/UYQ-86(V) variants 1 through 7 of the Common Data Link Management System (CDLMS). The AN/UYQ-120(V) C2P System has three possible variants depending on the host site in which it is installed and only uses trusted software.

The AN/SQQ-89 is a state-of-the-art anti-submarine warfare and combat system. It consists of a complex set of equipment and information processing subsystems that provide the capability to provide an acoustic undersea tactical picture for U.S. surface combatants (cruisers, destroyers, frigates) as well as Japan's ATAGO and MAYA class destroyers. The SQQ-89A(V15) combines processing of active and passive sonar sensor data from a hull/bow array, towed TB-37 array, and sonobuoys.

The RT-1829(P)/S is a shipboard Ultra High Frequency, Satellite Communications (UHF SATCOM) channel terminal that is Joint Interoperability Test Command (JITC)-assessed and NSA-certified to comply with legacy Demand Assigned Multiple Access (DAMA) MIL-STDs and interoperate with fielded UHF SATCOM terminals. The terminal allows for a single control and management interface to operate multiple voice and data communications simultaneously. The UHF SATCOM architecture will be configured with the OE-570D antenna system and will support Satellite TADIL-J (S TADIL-J) for extension of Link-16.

The Sensitivity of Technology Statement contained in the original notification applies to other items reported here.

The highest level of classification of defense articles, components, and services included in this potential sale is SECRET.

(vii) Date Report Delivered to Congress: December 14, 2023

[FR Doc. 2024-29495 Filed 12-13-24; 8:45 am]

BILLING CODE 6001-FR-P